INTERNATIONAL TRADE COMMISSION

[Inv. No. 337-TA-492]

In the Matter of Certain Plastic Grocery and Retail Bags; Notice of Decision Not To Review an Initial Determination Terminating the Investigation as to One Respondent on the Basis of a Consent Order; Issuance of Consent Order

AGENCY: International Trade Commission.

ACTION: Notice.

SUMMARY: Notice is hereby given that the U.S. International Trade Commission has determined not to review an initial determination (ID) issued by the presiding administrative law judge (ALJ) in the above-captioned investigation terminating respondent Spectrum Plastics, Inc. (“Spectrum”) from the investigation on the basis of a consent order.

FOR FURTHER INFORMATION CONTACT: Andrea Casson, Esq., Office of the General Counsel, U.S. International Trade Commission, 500 E Street, SW., Washington, DC 20436, telephone 202-205-3105. Copies of all nonconfidential documents filed in connection with this investigation are or will be available for inspection during official business hours (8:45 a.m. to 5:15 p.m.) in the Office of the Secretary, U.S. International Trade Commission, 500 E Street, SW., Washington, DC 20436, telephone 202-205-2000. General information concerning the Commission may also be obtained by accessing its Internet server (http://www.usitc.gov). The public record for this investigation may be viewed on the Commission's electronic docket (EDIS) at http://edis.usitc.gov. Hearing-impaired persons are advised that information on the matter can be obtained by contacting the Commission's TDD terminal on 202-205-1810.

SUPPLEMENTARY INFORMATION: The Commission instituted this investigation on May 1, 2003, based on a complaint filed by Superbag Corp. (“Superbag”) of Houston, Texas, against four respondents, including Spectrum, of Cerritos, California. 68 FR 24755. Superbag's complaint alleged violations of section 337 of the Tariff Act of 1930 in the importation into the United States, sale for importation, and/or sale within the United States after importation of certain T-styled plastic grocery and retail bags that infringe one or more of claims 1-8 and 15-19 of Superbag's U.S. Patent No. 5,188,235. On August 22, 2003, the ALJ issued an ID (Order No. 7) granting complainant's motion to amend the complaint to add six additional respondents. That ID was not reviewed by the Commission. 68 FR 54740 (Sept. 18, 2003).

On December 23, 2003, pursuant to Commission rule 210.21(c), Superbag moved to terminate the investigation with respect to Spectrum on the basis of a proposed consent order. On January 2, 2004, the Commission investigative attorney filed a response supporting the motion.

On January 8, 2004, the ALJ issued an ID (Order No. 23) granting the motion. No petitions for review of the ID were filed.

The authority for the Commission's determination is contained in section 337 of the Tariff Act of 1930, as amended (19 U.S.C. 1337), and in section 210.42 of the Commission's rules of practice and procedure (19 CFR 210.42).

Issued: February 5, 2004.
By order of the Commission.
Marilyn R. Abbott,
Secretary.

[FR Doc. 04-2942 Filed 2-10-04; 8:45 am]

BILLING CODE 7020-02-P